ENVIRONMENTAL PROTECTION AGENCY

40 CFR Part 52

[EPA-R09-OAR-2014-0696; FRL-9918-58-Region 9]

Revisions to the California State Implementation Plan, Ventura County Air Pollution Control District

AGENCY: Environmental Protection Agency (EPA).

ACTION: Proposed rule.

SUMMARY: The Environmental Protection Agency (EPA) is proposing to approve a State Implementation Plan (SIP) revision submitted by California for the Ventura County Air Pollution Control District (VCAPCD or “the District”) portion of the California SIP. The submitted SIP revision contains the District's demonstration regarding Reasonably Available Control Technology (RACT) requirements for the 2008 8-hour ozone National Ambient Air Quality Standards (NAAQS). We are proposing to approve the submitted SIP revision under the Clean Air Act as amended in 1990 (CAA or the Act). We are taking comments on this proposal and plan to follow with a final action.

DATES: Any comments must arrive by November 28, 2014.

ADDRESSES: Submit comments, identified by docket number EPA-R09-OAR-2014-0696, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: Throughout this document, “we,” “us” and “our” refer to EPA.

Table of Contents

I. The State's Submittal

A. What document did the State submit?

B. Are there other versions of document?

C. What is the purpose of the RACT SIP submission?

II. EPA's Evaluation and Proposed Action

A. How is EPA evaluating the RACT SIP submission?

B. Does the RACT SIP submission meet the evaluation criteria?

C. EPA's Recommendation To Strengthen the RACT SIP

D. Proposed Action and Public Comment

III. Statutory and Executive Order Reviews

I. The State's Submittal

A. What document did the State submit?

Table 1 lists the document addressed by this proposal with the date that it was adopted by the local air agency and submitted by the California Air Resources Board.

Table 1—Submitted Document
Local agency | Document | Adopted | Submitted
VCAPCD | 2014 Reasonably Available Control Technology (RACT) State Implementation Plan (SIP) Revision (“2014 RACT SIP”) | 6/10/14 | 7/18/14

On September 18 2014, EPA determined that the submittal for VCAPCD's 2014 RACT SIP met the completeness criteria in 40 CFR Part 51 Appendix V, which must be met before formal EPA review.

B. Are there other versions of this document?

While there is no previous version of VCAPCD's 2014 RACT SIP, we approved VCAPCD's 2006 RACT SIP analysis on April 21, 2009 (74 FR 18148) for the 1997 8-hour ozone NAAQS, and VCAPCD's 2009 RACT SIP Revision on May 15, 2014 (79 FR 27761) for several newly issued Control Techniques Guidelines (CTG) documents.

C. What is the purpose of the RACT SIP submission?

Volatile organic compounds (VOCs) and nitrogen oxides (NOX) help produce ground-level ozone and smog, which harm human health and the environment. Section 110(a) of the CAA requires States to submit enforceable regulations that control VOC and NOX emissions. Sections 182(b)(2) and (f) require that SIPs for ozone nonattainment areas classified as moderate or above require implementation of RACT for any source covered by a CTG document and any other major stationary source of VOCs or NOX. The VCAPCD is subject to this requirement as it is designated and classified as a serious ozone nonattainment area for the 2008 8-hour ozone NAAQS. 40 CFR 81.305; 77 FR 3008 (May 21, 2012) (final rule designating and classifying Ventura County APCD as serious nonattainment for the 2008 8-hour ozone NAAQS). Therefore, VCAPCD must, at a minimum, adopt RACT-level controls for all sources covered by a CTG document and for all major non-CTG stationary sources of VOCs or NOX. Any stationary source that emits or has a potential to emit at least 50 tons per year (tpy) of VOCs or NOX is a major stationary source in a serious ozone nonattainment area. CAA section 182(c), (f).

Section III.D. of the preamble to EPA's proposed rule to implement the 2008 NAAQS (78 FR 34178, June 6, 2013) states in part that “RACT SIPs must contain adopted RACT regulations, certifications where appropriate that existing provisions are RACT, and/or negative declarations that there are no sources in the nonattainment area covered by a specific CTG source category.” The preamble further states that “States must also submit appropriate supporting information for their RACT submission as described in the Phase 2 Rule. See 70 FR 71651.” The submitted document is VCAPCD's demonstration and certification that its rules fulfill RACT for the 2008 8-hour ozone NAAQS and that the District has adopted negative declarations where it has no sources covered by a CTG document. EPA's technical support document (TSD) has more information about the District's submission and EPA's evaluation thereof.

II. EPA's Evaluation and Proposed Action

A. How is EPA evaluating the RACT SIP submission?

Rules and guidance documents that we use to evaluate CAA section 182 RACT SIPs include the following:

1. “Final Rule to Implement the 8-Hour Ozone National Ambient Air Quality Standard—Phase 2” (70 FR71612; November 29, 2005).

2. “Implementation of the 2008 National Ambient Air Quality Standards for Ozone: State Implementation Plan Requirements”—Proposed Rule (78 FR 34178; June 6, 2013).

3. “State Implementation Plans, General Preamble for the Implementation of Title I of the Clean Air Act Amendments of 1990” (57 FR 13498; April 16, 1992).

4. Issues Relating to VOC Regulation Cutpoints, Deficiencies, and Deviations: Clarification to Appendix D of November 24, 1987 Federal Register, May 25, 1988, U.S. EPA, Air Quality Management Division, Office of Air Quality Planning and Standards (“The Blue Book”).

5. Guidance Document for Correcting Common VOC and Other Rule Deficiencies, August 21, 2001, U.S. EPA Region IX (the “Little Bluebook”).

6. “State Implementation Plans; Nitrogen Oxides Supplement to the General Preamble for the Implementation of Title I of the Clean Air Act Amendments of 1990” (57 FR 55620, November 25, 1992) (“the NOX Supplement”).

7. Memorandum from William T. Harnett to Regional Air Division Directors, (May 18, 2006), “RACT Qs & As—Reasonably Available Control Technology (RACT) Questions and Answers.”

8. RACT SIPs, Letter dated March 9, 2006 from EPA Region IX (Andrew Steckel) to CARB (Kurt Karperos) describing Region IX's understanding of what constitutes a minimally acceptable RACT SIP.

9. EPA's CTGs http://www.epa.gov/glo/SIPToolkit/ctgs.html.

B. Does the RACT SIP submission meet the evaluation criteria?

VCAPCD's 2014 RACT SIP provides the District's demonstration and certification that the applicable SIP for the Ventura County APCD satisfies CAA section 182 RACT requirements for the 2008 8-hour ozone NAAQS. The District's submittal builds on its 2006 and 2009 RACT SIP certifications that its rules meet RACT. However, since, as the District points out, many CTGs have not been updated for many years, VCAPCD compared its rules to similar rules in other air districts with a higher ozone nonattainment classification. VCAPCD also reviewed the cost effectiveness of more stringent requirements adopted in other air districts.

Where there are no existing sources covered by a particular CTG document, states may, in lieu of adopting RACT requirements for those sources, adopt negative declarations certifying that there are no such sources in the relevant nonattainment area. Table B-2 of VCAPCD's 2014 RACT SIP lists not only CTGs, but also other documents relevant to establishing RACT at major sources. Negative declarations are only required for CTG source categories for which the District has no sources covered by the CTG. A negative declaration is not required for non-CTG source categories. Table 2 below lists the CTG source categories that remain after we excluded non-CTG documents from VCAPCD's 2014 RACT SIP Table B-2.

Table 2—VCAPCD Negative Declarations
CTG source category | CTG reference document
Aerospace | EPA-453/R-97-004, Aerospace CTG and MACT.
Automobile and Light-duty Trucks, Surface Coating of | EPA-450/2-77-008, Control of Volatile Organic Emissions from Existing Stationary Sources—Volume II: Surface Coating of Cans, Coils, Paper, Fabrics, Automobiles, and Light-Duty Trucks.
| EPA 453/R-08-006, Control Techniques Guidelines for Automobile and Light-Duty Truck Assembly Coatings.
Cans and Coils, Surface Coating of | EPA-450/2-77-008, Control of Volatile Organic Emissions from Existing Stationary Sources—Volume II: Surface Coating of Cans, Coils, Paper, Fabrics, Automobiles, and Light-Duty Trucks.
Flat Wood Paneling, Surface Coating of | EPA-450/2-78-032, Control of Volatile Organic Emissions from Existing Stationary Sources—Volume VII: Factory Surface Coating of Flat Wood Paneling.
| EPA-453/R-06-004, Control Techniques Guidelines for Flat Wood Paneling Coatings.
Flexible Packaging Printing | EPA-453/R-06-003, Control Techniques Guidelines for Flexible Package Printing.
Large Appliances, Surface Coating of | EPA-450/2-77-034, Control of Volatile Organic Emissions from Existing Stationary Sources—Volume V: Surface Coating of Large Appliances.
| EPA 453/R-07-004, Control Techniques Guidelines for Large Appliance Coatings.
Magnet Wire, Surface Coating for Insulation of | EPA-450/2-77-033, Control of Volatile Organic Emissions from Existing Stationary Sources—Volume IV: Surface Coating of Insulation of Magnet Wire.
Metal Furniture Coatings | EPA-450/2-77-032, Control of Volatile Organic Emissions from Existing Stationary Sources—Volume III: Surface Coating of Metal Furniture.
| EPA 453/R-07-005, Control Techniques Guidelines for Metal Furniture Coatings.
Paper, Film and Foil Coatings | EPA 453/R-07-003, Control Techniques Guidelines for Paper, Film, and Foil Coatings.
Petroleum Refineries | EPA-450/2-77-025, Control of Refinery Vacuum Producing Systems, Wastewater Separators, and Process Unit Turnarounds.
| EPA-450/2-78-036, Control of Volatile Organic Compound Leaks from Petroleum Refinery Equipment.
Fiberglass Boat Manufacturing | EPA 453/R-08-004, Control Techniques Guidelines for Fiberglass Boat Manufacturing Materials.
Industrial Adhesives | EPA 453/R-08-005, Control Techniques Guidelines for Miscellaneous Industrial Adhesives.
Pharmaceutical Products | EPA-450/2-78-029, Control of Volatile Organic Emissions from Manufacture of Synthesized Pharmaceutical Products.
Pneumatic Rubber Tires, Manufacture of | EPA-450/2-78-030, Control of Volatile Organic Emissions from Manufacture of Pneumatic Rubber Tires.
Polyester Resin | EPA-450/3-83-008, Control of Volatile Organic Compound Emissions from Manufacture of High-Density Polyethylene, Polypropylene, and Polystyrene Resins.
| EPA-450/3-83-006, Control of Volatile Organic Compound Leaks from Synthetic Organic Chemical Polymer and Resin Manufacturing Equipment.
Synthetic Organic Chemical Manufacturing | EPA-450/3-84-015, Control of Volatile Organic Compound Emissions from Air Oxidation Processes in Synthetic Organic Chemical Manufacturing Industry.
| EPA-450/4-91-031, Control of Volatile Organic Compound Emissions from Reactor Processes and Distillation Operations in Synthetic Organic Chemical Manufacturing Industry.
Petroleum Solvent Dry Cleaners | EPA-450/3-82-009, Control of Volatile Organic Compound Emissions from Large Petroleum Dry Cleaners.

VCAPCD provided its 2014 RACT SIP for public comment prior to the public hearing for adoption. No written comments were received by the District.

We are proposing to find that VCAPCD's 2014 RACT SIP submission, including the above negative declarations, adequately demonstrate that its rules satisfy RACT for the 2008 8-hour ozone NAAQS. Our TSD has more information on our evaluation.

C. EPA Recommendations To Strengthen the RACT SIP

We recommend VCAPCD investigate Rule 70, Storage and Transfer of Gasoline, for potential future emission reductions the next time the District opens the rule for amendment. We discuss this recommendation further in our TSD.

D. Proposed Action and Public Comment

Based on the evaluations discussed above and more fully in our TSD, we are proposing to conclude that VCAPCD's 2014 RACT SIP satisfies CAA section 182 RACT requirements for the 2008 8-hour ozone NAAQS and to fully approve this submission into the California SIP pursuant to section 110(k)(3) of the Act. We will accept comments from the public on this proposal for the next 30 days. Unless we receive convincing new information during the comment period, we intend to publish a final approval action that will incorporate this RACT submission into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this proposed action merely proposes to approve State law as meeting Federal requirements and does not impose additional requirements beyond those imposed by State law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this proposed action does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Intergovernmental relations, Nitrogen dioxide, Ozone, Reporting and recordkeeping requirements, Volatile organic compounds.

Authority: 42 U.S.C. 7401 et seq.

Dated: October 9, 2014.
Jared Blumenfeld,
Regional Administrator, Region IX.

[FR Doc. 2014-25742 Filed 10-28-14; 8:45 am]

BILLING CODE 6560-50-P